DEPARTMENT OF HEALTH AND HUMAN SERVICES

Substance Abuse and Mental Health Services Administration

Fiscal Year (FY) 2010 Funding Opportunity

AGENCY: Substance Abuse and Mental Health Services Administration, HHS.

ACTION: Notice of intent to award a Single Source Grant to the grantee of the Technical Assistance Center for Mental Health Promotion and Youth Violence Prevention.

SUMMARY: This notice is to inform the public that the Substance Abuse and Mental Health Services Administration (SAMHSA) intends to award approximately $620,000 for up to three years to the grantee of the Technical Assistance Center for Mental Health Promotion and Youth Violence Prevention. This is not a formal request for applications. Assistance will be provided only to the current grantee of the Technical Assistance Center for Mental Health Promotion and Youth Violence Prevention based on the receipt of a satisfactory application that is approved by an independent review group.

Funding Opportunity Title: SM-10-018.

Catalog of Federal Domestic Assistance (CFDA) Number: 93.243.

Authority: Section 520A of the Public Health Service Act, as amended.

Justification: Only an application from the grantee for the Technical Assistance Center for Mental Health Promotion and Youth Violence Prevention will be considered for funding under this announcement. Three-year funding has become available to assist because this funding supplement is intended to support the technical assistance needs of Project LAUNCH grantees to be newly funded in FY 2010. The current grantee provides technical assistance to the other cohorts for Project LAUNCH and is in a unique position to address the grant implementation needs of communities to be funded this fiscal year. There is no other potential organization with the required access and expertise.

Eligibility for this program supplement is restricted to the current grantee, Technical Assistance Center for Mental Health Promotion and Youth Violence Prevention. This supplement will serve to maximize efficiencies created under the current services infrastructure. It would be inefficient and duplicative to fund additional technical assistance services for Project LAUNCH grantees through a second organization.

Contact: Shelly Hara, Substance Abuse and Mental Health Services Administration, 1 Choke Cherry Road, Room 8-1095, Rockville, MD 20857; telephone: (240) 276-2321; E-mail: shelly.hara@samhsa.hhs.gov.

Toian Vaughn,
SAMHSA Committee Management Officer.

[FR Doc. 2010-10502 Filed 5-4-10; 8:45 am]

BILLING CODE 4162-20-P